DEPARTMENT OF ENERGY

Federal Energy Regulatory Commission

Combined Notice of Filings

Take notice that the Commission has received the following Natural Gas Pipeline Rate and Refund Report filings:

Filings Instituting Proceedings

Docket Numbers: PR15-39-000.

Applicants: Northern Illinois Gas Company.

Description: Submits tariff filing per 284.123(b)(2) + (g): Petition for Rate Approval to be effective 9/1/2015; Filing Type: 1310.

Filed Date: 7/30/15.

Accession Number: 20150730-5078.

Comments Due: 5 p.m. ET 8/20/15.

284.123(g) Protests Due: 5 p.m. ET 9/28/15.

Docket Numbers: RP15-1176-000.

Applicants: Transcontinental Gas Pipe Line Company.

Description: Compliance filing Report of Refund Transco's GSS LSS Customer Share of DTI Penalty Revenue 2015.

Filed Date: 8/3/15.

Accession Number: 20150803-5204.

Comments Due: 5 p.m. ET 8/17/15.

Docket Numbers: RP15-1177-000.

Applicants: Tennessee Gas Pipeline Company, L.L.C.

Description: Section 4(d) Rate Filing: Clean-Up Filing—2015 to be effective 9/1/2015.

Filed Date: 8/3/15.

Accession Number: 20150803-5256.

Comments Due: 5 p.m. ET 8/17/15.

Docket Numbers: RP15-1178-000.

Applicants: Cimarron River Pipeline, LLC.

Description: Section 4(d) Rate Filing: Fuel Tracker 2015—Winter Season Rates to be effective 11/1/2015.

Filed Date: 8/4/15.

Accession Number: 20150804-5000.

Comments Due: 5 p.m. ET 8/17/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 4, 2015.
Nathaniel J. Davis, Sr.,
Deputy Secretary.

[FR Doc. 2015-19563 Filed 8-7-15; 8:45 am]

BILLING CODE 6717-01-P